DEPARTMENT OF ENERGY

Federal Energy Regulatory Commission

[Project No. 11351-014]

Columbia Power & Water Systems; Notice of Availability of Environmental Assessment

March 29, 2007.

In accordance with the National Environmental Policy Act of 1969 and the Federal Energy Regulatory Commission (Commission or FERC) regulations contained in the Code of Federal Regulations (CFR) (18 CFR Part 380) [FERC Order No. 486, 52 FR 47897], the Office of Energy Project's staff (staff) reviewed a proposal to surrender the license for the Old Columbia Dam Project, and prepared an environmental assessment (EA) for this proposed surrender. In this EA, staff evaluates potential effects of the proposed surrender and finds that there would be no effects to aquatic or terrestrial resources, threatened or endangered species, recreation resources, or land use. The Commission also determined that the proposed surrender may adversely affect properties listed in the National Register due to the loss of Federal jurisdiction, and executed a Memorandum of Agreement (MOA) with the Tennessee State Historic Preservation Officer, pursuant to 36 CFR part 800.3 and 36 CFR part 800.6 of the Advisory Council on Historic Preservation regulations implementing Section 106 of the National Historic Preservation Act (16 U.S.C. 470f), in order to mitigate the adverse effects of the proposed surrender. The EA concludes that the proposed action will not constitute a major federal action significantly affecting the human environment.

A copy of the EA is attached to Commission order titled “Order Approving Surrender of License”, issued March 28, 2007 and is available for review at the Commission in the Public Reference Room, located at 888 First Street, NE., Room 2A, Washington, DC 20426, or may be viewed on the Commission's Web site at http://www.ferc.gov using the “eLibrary” link. Enter the docket number excluding the last three digits in the docket number field to access the document. For assistance, call toll-free 1-866-209-3676 or e-mail FERCOnlineSupport@ferc.gov. For TTY, call (202) 502-8659.

Philis J. Posey,
Acting Secretary.

[FR Doc. E7-6206 Filed 4-3-07; 8:45 am]

BILLING CODE 6717-01-P